DEPARTMENT OF TRANSPORTATION

Pipeline and Hazardous Materials Safety Administration

Notice of Applications for Modification of Special Permit

AGENCY: Office of Hazardous Materials Safety, Pipeline and Hazardous Materials Safety Administration (PHMSA), DOT.

ACTION: List of Applications for Modification of Special Permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before August 2, 2012.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC, or at http://regulations.gov.

This notice of receipt of applications for modification of special permit is published in accordance with Part 107 of the Federal hazardous materials transportation law (49 U.S.C. 5117(b); 49 CFR 1.53(b)).

Issued in Washington, DC, on July 11, 2012.
Donald Burger,
Chief, General Approvals and Permits.

Application No. | Docket No. | Applicant | Regulation(s) affected | Nature of special permits thereof
MODIFICATION SPECIAL PERMITS
12516-M |  | Poly-Coat Systems, Inc., Liverpool, TX | 49 CFR 107.503(b)(c); 172.102(c)(3) B15 and B23; 173.241; 173.242; 178.345-1; -2; -3; -4; -7; -14; -15; 178.347-1; -2; 178.348-1; 178.348-2; 180.405; 180.413(d) | To modify the special permit that authorizes the manufacture, mark, sale and use of non-DOT specification cargo tanks constructed of fiberglass reinforced plastic by increasing the volumetric capacity.
14546-M |  | Linde Gas North America LLC, Murray Hill, NJ | 49 CFR 180.209 | To modify the special permit to authorize an alternative testing procedures for requalifying cylinders.
15267-M |  | SMI Companies Franklin, LA | 49 CFR 171.8 | To modify the special permit to change the design by removing the 2″ nozzles on the top flange.
15599-M |  | Vodik Labs, (formerly Ovonic Hydrogen Systems), Fort Worth, TX | LLC 49 CFR 173.311 | To modify the special permit to authorize cargo aircraft only.

[FR Doc. 2012-17354 Filed 7-17-12; 8:45 am]

BILLING CODE M